DEPARTMENT OF THE INTERIOR

Fish and Wildlife Service

[FWS-R4-ES-2016-N058; 40120-1112-0000-F2]

Incidental Take Permit Applications for Alabama Beach Mouse; Gulf Shores, Alabama

AGENCY: Fish and Wildlife Service, Interior.

ACTION: Notice of availability; request for comments.

SUMMARY: Under the Endangered Species Act, we, the U.S. Fish and Wildlife Service, announce the receipt and availability of two proposed low-effect habitat conservation plans and accompanying incidental take permit applications for take of the Alabama beach mouse habitat incidental to construction in Gulf Shores, Alabama. We invite public comments on these documents.

DATES: We must receive any written comments at our Alabama Field Office (see ADDRESSES) on or before June 23, 2016.

ADDRESSES: Obtaining Documents: Documents are available for public inspection by appointment during normal business hours at the Fish and Wildlife Service's Alabama Field Office, 1208-B Main Street, Daphne, Alabama 36526. Please submit comments by U.S. mail to the Fish and Wildlife Service's Alabama Field Office.

Submitting Comments: For how to submit comments, see Public Comments in the SUPPLEMENTARY INFORMATION section.

FOR FURTHER INFORMATION CONTACT: Mr. Bill Lynn, Fish and Wildlife Biologist (see ADDRESSES); telephone: 251-441-5868.

SUPPLEMENTARY INFORMATION:

Introduction

We announce the availability of two proposed low-effect habitat conservation plans (HCP), which analyze the take of the Alabama beach mouse (Peromyscus polionotus ammobates) (ABM) incidental to construction of 19 single-family homes by West Beach LLC on a 1.02-acre lot and construction of single-family home by Charles M. Smith on a 0.39 acre lot in Gulf Shores, Alabama. The applicants request incidental take permits (ITP) under section 10(a)(1)(B) of the Endangered Species Act (Act; 16 U.S.C. 1531 et seq.). If we approve these two ITP's, the West Beach LLC anticipates the taking of up to 1.02 acres of ABM habitat over a requested 25-year ITP, and Charles M. Smith anticipates the taking of up to 0.06 acre of ABM habitat over a 50-year ITP.

Applicants' Proposals

West Beach LLC

The applicant proposes to minimize and mitigate the take of up to 1.02 acres of ABM habitat at 1932 West Beach Boulevard, Gulf Shores, Alabama, by using routine ABM conservation measures at the proposed development (such as minimizing construction footprint, restoration of native vegetation, and measures to minimize effects to ABM during occupancy and use of the development) and by donating a 0.91-acre “inholding” lot of Bon Secour National Wildlife Refuge (BSNWR). The lot proposed for development currently has a single-family house on it and a large portion of the lot has been previously used as a construction storage yard. The lot proposed for mitigation is within the acquisition boundary of Bon Secour National Wildlife Refuge, and contains high-quality habitat and will be donated to the Alabama Coastal Heritage Trust (ACHT). ACHT will either place a conservation easement on the lot or eventually convey it to BSNWR.

Charles M. Smith

The applicant proposes to minimize and mitigate the take of up to 0.06 acres of ABM habitat at an inholding lot off Mobile Street within the Perdue Unit of Bon Secour National Wildlife Refuge (BSNWR), Gulf Shores, Alabama by using standard ABM conservation measures at the proposed development and by donating an “in-lieu” fee to the Friends of Bon Secour National Wildlife Refuge group (FBSNWR). The lot proposed for development currently is undeveloped, but will utilize an existing driveway to minimize impacts. The “in-lieu” fee will be donated to the FBSNWR group whom will use the fee to either managed, maintain, or acquire ABM habitat within the BSNWR Perdue Unit.

Our Preliminary Determination

We have made a preliminary determination that the applicants' projects, including the mitigation measures, will individually and cumulatively have a minor or negligible effect on the species covered in the HCPs. Therefore, our proposed issuance of the requested ITPs qualifies as a categorical exclusion under the National Environmental Policy Act (NEPA), as provided by Department of the Interior implementing regulations in part 46 of title 43 of the Code of Federal Regulations (43 CFR 46.205, 46.210, and 46.215).

We base our determination that issuance of each ITP qualifies as a low-effect action on the following three criteria: (1) Implementation of the project would result in minor or negligible effects on federally listed, proposed, and candidate species and their habitats; (2) Implementation of the project would result in minor or negligible effects on other environmental values or resources; and (3) Impacts of the plan, considered together with the impacts of other past, present, and reasonably foreseeable similarly situated projects, would not result, over time, in cumulative effects to environmental values or resources that would be considered significant. As more fully explained in our environmental action statement and associated Low-Effect Screening Form, the applicant's proposed project qualifies as a “low-effect” project. This preliminary determination may be revised based on our review of public comments that we receive in response to this notice.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE84215B-0 (West Beach LLC), or TE84216B-0 (Charles M. Smith) in such comments. You may mail comments to the Fish and Wildlife Service's Alabama Field Office (see ADDRESSES). You may also comment via the internet to william_lynn@fws.gov. Please include your name and return address in your internet message. If you do not receive a confirmation from us that we have received your internet message, contact us directly at either telephone number listed under FOR FURTHER INFORMATION CONTACT. Finally, you may hand-deliver comments to the office listed under ADDRESSES.

Covered Area

The area encompassed by the HCPs and applications is the 1.02-acre lot located at 1932 West Beach Boulevard, and the 0.39-acre inholding lot located in the Perdue Unit of Bon Secour National Wildlife Refuge, in Gulf Shores, Alabama.

Next Steps

We will evaluate the ITP applications, including the HCP's and any comments we receive, to determine whether the application meets the requirements of section 10(a)(1)(B) of the Act. We will also evaluate whether issuance of a section 10(a)(1)(B) ITP complies with section 7 of the Act by conducting an intra-Service section 7 consultation. We will use the results of this consultation, in combination with the above findings, in our final analysis to determine whether or not to issue the ITP. If we determine that the requirements are met, we will issue the ITPs for the incidental take of ABM habitat.

Authority

We provide this notice under Section 10 of the Act (16 U.S.C. 1531 et seq.) and NEPA regulations (40 CFR 1506.6).

Dated: May 18, 2016
William J. Pearson,
Field Supervisor, Alabama Field Office.

[FR Doc. 2016-12159 Filed 5-23-16; 8:45 am]

BILLING CODE 4333-15-P